NATIONAL AERONAUTICS AND SPACE ADMINISTRATION

[Notice: (15-093)]

NASA Advisory Council; Technology, Innovation and Engineering Committee; Meeting

AGENCY: National Aeronautics and Space Administration.

ACTION: Notice of meeting.

SUMMARY: In accordance with the Federal Advisory Committee Act, Public Law 92-463, as amended, the National Aeronautics and Space Administration (NASA) announces a meeting of the Technology, Innovation and Engineering (TI&E) Committee of the NASA Advisory Council (NAC).

DATES: Tuesday, November 10, 2015, 8 a.m. to 5 p.m., Local Time.

ADDRESSES: NASA Headquarters, Room MIC 7A, 300 E Street SW., Washington, DC 20546.

FOR FURTHER INFORMATION CONTACT: Mr. Mike Green, Space Technology Mission Directorate, NASA Headquarters, Washington, DC 20546, (202) 358-4710, or g.m.green@nasa.gov.

SUPPLEMENTARY INFORMATION: The meeting will be open to the public up to the capacity of the room. This meeting is also available telephonically and online via WebEx. Any interested person may call the USA toll-free conference number 1-844-467-6272, passcode 102421, to participate in this meeting by telephone. The WebEx link is https://nasa.webex.com/, the meeting number is 998 765 931, and the password is “Technology15%”.

The agenda for the meeting includes the following topics:

—Space Technology Mission Directorate Update

—Briefing and Discussion on Technology Risk/Challenges Matrix for Humans to Mars

—Office of the Chief Technologist Update

—Briefing on Agency Technical Capability Assessment Outcomes

Attendees will be requested to sign a register and to comply with NASA security requirements, including the presentation of a valid picture ID, before receiving access to NASA Headquarters. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Foreign nationals attending this meeting will be required to provide a copy of their passport and visa in addition to providing the following information no less than 10 working days prior to the meeting: full name; gender; date/place of birth; citizenship; visa information (number, type, expiration date); passport information (number, country, expiration date); employer/affiliation information (name of institution, address, country, telephone); title/position of attendee; and home address to Ms. Anyah Dembling via email at anyah.dembling@nasa.gov or by telephone at (202) 358-5195. U.S. citizens and Permanent Residents (green card holders) are requested to submit their name and affiliation no less than three working days prior to the meeting to Ms. Anyah Dembling.

Patricia D. Rausch,
Advisory Committee Management Officer, National Aeronautics and Space Administration.

[FR Doc. 2015-26480 Filed 10-16-15; 8:45 am]

BILLING CODE 7510-13-P